DEPARTMENT OF ENERGY

Federal Energy Regulatory Commission

Allegheny Energy, Inc., Monongahela Power Company, The Potomac Edison Company, and Allegheny Energy Supply Company, LLC (Docket No. EC05-104-000); and Monongahela Power Company, Allegheny Energy Supply Company, LLC, and Allegheny Energy OVEC Supply Company, LLC (Docket No. ER05-1212-000); Notice of Filing

July 21, 2005.

Take notice that on July 13, 2005, Allegheny Energy, Inc. (Allegheny Energy) Monongahela Power Company (Mon Power), The Potomac Edison Company (PE), Allegheny Energy Supply Company, LLC (AE Supply) and Allegheny Energy OVEC Supply Company, LLC (AEOS) (collectively, the Applicants) filed a request pursuant to section 203 of the Federal Power Act (FPA) and Part 33 of the Commission's Regulations, that the Commission approve a restructuring transaction (the Transaction) that will realign the generation ownership and contractual arrangements within the Allegheny Energy holding company system.

Applicants state that the transaction involves both the transfer of jurisdictional assets and the restructuring of contractual arrangements among the Applicants. As a result, the Applicants also are submitting for filing under section 205 of the FPA and Part 35 of the Commission's regulations the following agreements: (1) An Amended and Restated Full Requirements Service Agreement, which amends an existing Service Agreement between AE Supply and PE and which will be assigned by AE Supply to Mon Power; (2) an amended and restated Facilities Lease and Assignment Agreement, which amends an existing Facilities Lease Agreement between AE Supply and PE, and which will be assigned by PE to Mon Power; (3) a new Facilities Lease and Assignment Agreement between Mon Power and PE; and (4) a new Power Sales Agreement between AEOS and AE Supply.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all the parties in this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. eastern time on August 3, 2005.

Linda Mitry,
Deputy Secretary.

[FR Doc. E5-4020 Filed 7-27-05; 8:45 am]

BILLING CODE 6717-01-P